NATIONAL SCIENCE FOUNDATION

Advisory Committee for Small Business Industrial Innovation; Notice of Meeting

In accordance with the Federal Advisory Committee Act (Pub. L. 92-463, as amended), the National Science Foundation announces the following meeting:

Name: Advisory Committee for Small Business Industrial Innovation (SBIR)—(61).

Date and Time: June 17-18, 2003, 8 a.m.-5 p.m.

Type of Meeting: Open.

Place: Room 1235, National Science Foundation, 4201 Wilson Boulevard, Arlington, VA 22230.

Contact Person: Kesh Narayanan, Director, Small Business Innovation Research and Small Business Technology Transfer Programs, Room 590, Division of Design, Manufacturing, and Industrial Innovation (703) 292-7076, National Science Foundation, 4201 Wilson Boulevard, Arlington, VA 22230.

Minutes: May be obtained from the contact person listed above.

Purpose of Committee: To provide advice and recommendations concerning research programs pertaining to the small business community.

Agenda: June 17, 2003, Room 1235.

8:30 am—Welcome.

8:35 am—Introductions.

9:15 am—Break.

9:30 am—SBIR/STTR Program Overview.

12 noon—Lunch.

1 pm—Special Topics.

3 pm—Break.

3:15 pm—Open Discussion.

5 pm—Adjourn.

Agenda: June 18, 2003, Room 1235.

8:15 am—Open Discussion.

10 am—Break.

10:15 am—Discussion and Preparation of Committee Report.

12 noon—Lunch.

1 pm—Discussion and Preparation of Committee Report.

3 pm—Feedback from the Committee.

5 pm—Adjourn.

Dated: June 3, 2003.
Susanne Bolton,
Committee Management Officer.

[FR Doc. 03-14362 Filed 6-6-03; 8:45 am]

BILLING CODE 7555-01-M